DEPARTMENT OF COMMERCE

International Trade Administration

[A-570-108]

Ceramic Tile From the People's Republic of China: Preliminary Affirmative Determination of Sales at Less Than Fair Value, Preliminary Negative Critical Circumstances Determination, and Postponement of Final Determination

AGENCY: Enforcement and Compliance, International Trade Administration, Department of Commerce.

SUMMARY: The Department of Commerce (Commerce) preliminarily determines that ceramic tile from the People's Republic of China (China) is being, or is likely to be, sold in the United States at less than fair value (LTFV). The period of investigation (POI) is October 1, 2018 through March 31, 2019. Interested parties are invited to comment on this preliminary determination.

DATES: Applicable November 14, 2019.

FOR FURTHER INFORMATION CONTACT: Heather Lui or Paul Walker, AD/CVD Operations, Office VI, Enforcement and Compliance, International Trade Administration, U.S. Department of Commerce, 1401 Constitution Avenue NW, Washington, DC 20230; telephone: (202) 482-0016 or (202) 482-0413, respectively.

SUPPLEMENTARY INFORMATION:

Background

This preliminary determination is made in accordance with section 733(b) of the Tariff Act of 1930, as amended (the Act). Commerce published the notice of initiation of this investigation on May 8, 2019.¹ On September 5, 2019, Commerce postponed the preliminary determination of this investigation and the revised deadline is now November 6, 2019.² For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov, and to all parties in the Central Records Unit, room B8024 of the main Commerce building. In addition, a complete version of the Preliminary Decision Memorandum can be accessed directly at http://enforcement.trade.gov/frn/.

¹ See Ceramic Tile from the People's Republic of China: Initiation of Less-Than-Fair-Value Investigation, 84 FR 20093 (May 8, 2019) (Initiation Notice).

² See Ceramic Tile from the People's Republic of China: Postponement of Preliminary Determinations in the Less-Than-Fair-Value Investigations, 84 FR 46711 (September 5, 2019).

³ See Memorandum, “Decision Memorandum for the Preliminary Determination in the Less Than Fair Value Investigation of Ceramic Tile from the People's Republic of China,” dated concurrently with, and hereby adopted by, this notice (Preliminary Decision Memorandum).

Scope of the Investigation

The product covered by this investigation is ceramic tile from China. For a complete description of the scope of this investigation, see Appendix I.

Scope Comments

In accordance with the preamble to Commerce's regulations,⁴ the Initiation Notice set aside a period of time for parties to raise issues regarding product coverage (i.e., scope).⁵ Certain interested parties commented on the scope of the investigation as it appeared in the Initiation Notice. For a summary of the product coverage comments and rebuttal responses submitted to the record for this investigation, and accompanying discussion and analysis of all comments timely received, see the Preliminary Scope Decision Memorandum.⁶ The scope case briefs were due on October 15, 2019, 30 days after the publication of the Ceramic Tile from China Preliminary CVD Determination.⁷ There will be no further opportunity for comments on scope-related issues.⁸

⁴ See Antidumping Duties; Countervailing Duties, Final Rule, 62 FR 27296, 27323 (May 19, 1997).

⁵ See Initiation Notice.

⁶ See Memorandum, “Ceramic Tile from the People's Republic of China: Scope Comments Decision Memorandum for the Preliminary Determinations,” dated September 6, 2019 (Preliminary Scope Decision Memorandum).

⁷ The scope case briefs were due 30 days after the publication of Ceramic Tile from the People's Republic of China: Preliminary Affirmative Countervailing Duty Determination, Preliminary Negative Critical Circumstances Determination, and Alignment of Final Determination with Final Antidumping Duty Determination, 84 FR 48125 (September 12, 2019) (Ceramic Tile from China Preliminary CVD Determination). See the Preliminary Scope Decision Memorandum at 3. In accordance with Commerce's practice, where a deadline falls on a weekend or federal holiday, the appropriate deadline is the next business day. See Notice of Clarification: Application of “Next Business Day” Rule for Administrative Determination Deadlines Pursuant to the Tariff Act of 2930, As Amended, 70 FR 24533 (May 10, 2005).

⁸ Parties were already permitted the opportunity to file scope case briefs. Case briefs, other written comments, and rebuttal briefs should not include scope-related issues. See Preliminary Scope Decision Memorandum at 3.

Methodology

Commerce is conducting this investigation in accordance with section 731 of the Act. Commerce has calculated export prices in accordance with section 772(a) of the Act. Because China is a non-market economy, within the meaning of section 771(18) of the Act, Commerce has calculated normal value in accordance with section 773(c) of the Act. In addition, pursuant to section 776(a) and (b) of the Act, Commerce has relied on facts otherwise available, with adverse inferences, for the China-wide entity. For a full description of the methodology underlying Commerce's preliminary determination, see the Preliminary Decision Memorandum.

Preliminary Negative Determination of Critical Circumstances

In accordance with section 733(e)(1) of the Act, Commerce preliminarily determines that information provided in the critical circumstances allegation does not demonstrate the existence of critical circumstances with respect to imports of ceramic tile from China. For a full description of the methodology and results of Commerce's analysis, see the Preliminary Decision Memorandum.

Combination Rates

In the Initiation Notice,⁹ Commerce stated that it would calculate producer/exporter combination rates for the respondents that are eligible for a separate rate in this investigation. Policy Bulletin 05.1 describes this practice.¹⁰ In this investigation, we calculated producer/exporter combination rates for respondents eligible for separate rates.

⁹ See Initiation Notice at 20097.

¹⁰ See Enforcement and Compliance's Policy Bulletin No. 05.1, regarding, “Separate-Rates Practice and Application of Combination Rates in Antidumping Investigations involving Non-Market Economy Countries,” (April 5, 2005) (Policy Bulletin 05.1), available on Commerce's website at http://enforcement.trade.gov/policy/bull05-1.pdf.

Preliminary Determination

Commerce preliminarily determines that the following estimated weighted-average dumping margins exist:

Exporter | Producer | Estimated weighted- average dumping margin (percent) | Cash deposit rate (adjusted for subsidy offsets) (percent)
Belite Ceramics (Anyang) Co., Ltd | Belite Ceramics (Anyang) Co., Ltd./Beilitai (Tianjin) Tile Co., Ltd./Tianjin Honghui Creative Technology Co., Ltd | 244.26 | 233.72
Foshan Sanfi Import & Export Co., Ltd | Guangdong Sanfi Ceramics Group Co., Ltd | 114.49 | 103.95
Anatolia Tile & Stone Inc | Hubei ASA Ceramics Co., Ltd Guangdong Bode Fine Building Material Co., Ltd | 178.20 178.20 | 167.66 167.66
| Foshan Mona Decoration Material Co., Ltd. (DBA Guang Dong Bo Hua Ceramics Co., Ltd.) | 178.20 | 167.66
| Heyuan Dongyuan Eagle Branch Ceramics Ltd | 178.20 | 167.66
| Foshan Gold Medal Ceramics International Trade Co., Ltd | 178.20 | 167.66
| Greens Patio Workshop Co., Ltd | 178.20 | 167.66
| Fujian Huatai Group Co., Ltd | 178.20 | 167.66
| Foshan Tianyao Ceramics Co., Ltd | 178.20 | 167.66
| Foshan Ibel Import and Export Ltd | 178.20 | 167.66
| Max Glory International Limited | 178.20 | 167.66
| Foshan Leo Import and Export Trading Co., Ltd | 178.20 | 167.66
| Guangdong Mona Lisa Trading Co., Ltd | 178.20 | 167.66
| Foshan Amosa International Business Company | 178.20 | 167.66
| Foshan Yonglie Export and Import Company Limited | 178.20 | 167.66
| Elegance International Inc. | 178.20 | 167.66
| Foshan International Trade Co., Ltd | 178.20 | 167.66
| Foshan Rhino Building Materials Co., Ltd | 178.20 | 167.66
| Foshan Romantic Ceramics Co., Ltd | 178.20 | 167.66
| Heyuan Romantic Ceramics Co., Ltd | 178.20 | 167.66
| Pingxiang Dacheng Ceramics Technology Co., Ltd | 178.20 | 167.66
| Jingdezhen Seed Ceramic Co., Ltd | 178.20 | 167.66
| Foshan Xinfu Imp. & Exp. Co., Ltd | 178.20 | 167.66
| Foshan Nah Hai Sky Glass Mosaic Limited | 178.20 | 167.66
| Super Building Material Co., Ltd. (Xiamen) | 178.20 | 167.66
| Foshan Tong Hai International Import and Export Trading Corporation Limited | 178.20 | 167.66
| Rabbit Song Building Material Co., Ltd | 178.20 | 167.66
Beilitai (Tianjin) Tile Co., Ltd | Beilitai (Tianjin) Tile Co., Ltd | 178.20 | 167.66
| Belite Ceramics (Anyang) Co., Ltd | 178.20 | 167.66
| Tianjin Honghui Creative Technology Co., Ltd | 178.20 | 167.66
China Stone Limited | Qingyuan MegaCera Ceramic Co., Ltd | 178.20 | 167.66
| Foshan Kovic Import and Export Co., Ltd | 178.20 | 167.66
Dongguan City Wonderful Ceramics Industrial Park Co., Ltd | Dongguan City Wonderful Ceramics Industrial Park Co., Ltd | 178.20 | 167.66
Dongguan City Wonderful Decoration Materials Co., Ltd | Dongguan City Wonderful Decoration Materials Co., Ltd | 178.20 | 167.66
Dox Building Materials Co., Limited | White Rabbit Ceramics Co., Ltd | 178.20 | 167.66
| Rabbit Song Building Material Co., Ltd | 178.20 | 167.66
Elegance International Inc | Tegaote Ceramics Co., Ltd | 178.20 | 167.66
| Foshan Nanhai District Zhengbin New Materials Co., Ltd | 178.20 | 167.66
Foshan Advance Import and Export Co., Ltd | Foshan Xinlianfa Ceramics Co., Ltd | 178.20 | 167.66
Foshan Ant Buying Service Co., Ltd | Foshan Xindonglong Ceramic Co., Ltd | 178.20 | 167.66
| Foshan Shiwan Yulong Ceramic Co., Ltd | 178.20 | 167.66
| Heshan Heqiang Art China & Dinnerware Co., Ltd | 178.20 | 167.66
| Foshan Kingfer Building Material Co., Ltd | 178.20 | 167.66
| Luoding Junhua Ceramics Industrial Co., Ltd | 178.20 | 167.66
| Foshan Xinamei Material Co., Ltd | 178.20 | 167.66
| Foshan Be Tf Fu Decorative Material Co., Ltd | 178.20 | 167.66
| Foshan Verona Borde Co., Ltd | 178.20 | 167.66
| Jiangmen Xuri Ceramic Co., Ltd | 178.20 | 167.66
| Foshan Yongzhuo Material Co., Ltd | 178.20 | 167.66
| Sihui Jiefeng Material Co., Ltd | 178.20 | 167.66
| Foshan Caidian Material Co., Ltd | 178.20 | 167.66
Foshan Artist Ceramics Co., Ltd | Sheng Taoju Ceramics | 178.20 | 167.66
| Zhaoqing Langfeng Ceramics Co., Ltd | 178.20 | 167.66
| Zhong Rong Ceramic Building Materials Co., Ltd | 178.20 | 167.66
| Foshan Xindonglong Ceramic Co., Ltd | 178.20 | 167.66
| Guangxi Jinmen Building Material Co., Ltd | 178.20 | 167.66
| Fujian Lvdao Ecology Technology Co., Ltd | 178.20 | 167.66
| Guangdong Fangxiang Ceramic Co., Ltd | 178.20 | 167.66
| Foshan Nanhai Yuda Ceremics Co., Ltd | 178.20 | 167.66
| Xinxing County Jin Mali Ceramics Co., Ltd | 178.20 | 167.66
| Foshan Chancheng Lijiahua Ceramics Co., Ltd | 178.20 | 167.66
| Foshan City Nanhai Junhong Ceramic Decoration Material Co., Ltd | 178.20 | 167.66
Foshan Atpalas Ceramics Co., Ltd | Foshan Yuanzhen Building Materials Co., Ltd | 178.20 | 167.66
Foshan CTC Group Co., Ltd | Guangdong Jiajun Ceramics Co., Ltd | 178.20 | 167.66
Foshan Disong Trading Co., Ltd | Zhaoqing Xinciyu Ceramics Co., Ltd | 178.20 | 167.66
Foshan Dolphin Trading Co., Ltd | Foshan Shiwan Yulong Ceramic Co., Ltd | 178.20 | 167.66
| Si Hui Jiefeng Decoration Materials Co., Ltd | 178.20 | 167.66
| Dongguan City Wonderful Ceramics Industrial Park Co., Ltd | 178.20 | 167.66
| Luoding Junhua Ceramics Industrial Co., Ltd | 178.20 | 167.66
| Guangdong Bode Fine Building Material Co., Ltd | 178.20 | 167.66
| Kaiping Tilee's Building Materials Co., Ltd | 178.20 | 167.66
| Zhuhai Xuri Ceramics Co., Ltd | 178.20 | 167.66
| Foshan Top Black Ceramics Co., Ltd | 178.20 | 167.66
| Guangdong Xinruncheng Ceramics Co., Ltd | 178.20 | 167.66
| Heyuan Romantic Ceramics Co., Ltd | 178.20 | 167.66
| Guangdong Xiejin Ceramics Co., Ltd | 178.20 | 167.66
| Liling Dolphin Ceramics Co., Ltd | 178.20 | 167.66
| Foshan Oceano Ceramics Co., Ltd | 178.20 | 167.66
| Kaiping Lihang Building Materials Co., Ltd | 178.20 | 167.66
| Hunan Tianxin Technology Co., Ltd | 178.20 | 167.66
| Oyg Glass Spar Decoration Materials Co., Ltd | 178.20 | 167.66
Foshan Dongpeng Ceramic Co., Ltd | Qingyuan Nafuna Ceramics Co., Ltd | 178.20 | 167.66
| Fengcheng Dongpeng Ceramics Co., Ltd | 178.20 | 167.66
| Lixian Xinpeng Ceramic Co., Ltd | 178.20 | 167.66
| Foshan Donghuashengchang New Material Co., Ltd | 178.20 | 167.66
Foshan Dongxin Economy And Trade Co., Ltd | Zhangzhou Aoli Ceramic Development Co., Ltd | 178.20 | 167.66
Foshan Eiffel Ceramic Co., Ltd | Foshan Bubuking Decorating Techniques Co., Ltd | 178.20 | 167.66
| Guangdong Shenghui Ceramics Co., Ltd | 178.20 | 167.66
| Qingyuan Baoshima Ceramics Co., Ltd | 178.20 | 167.66
Foshan Eminent Industry Development Co., Ltd | Foshan Huanqiu Ceramics Co., Ltd | 178.20 | 167.66
Foshan Everstone Import & Export Co., Ltd | Foshan Gani Ceramics Co., Ltd | 178.20 | 167.66
Foshan Gani Ceramics Co., Ltd | Qingyuan Gani Ceramics Co., Ltd | 178.20 | 167.66
Foshan Gold Medal Ceramics International Trade Co., Ltd | Guangdong Goldmedal Ceramics Co., Ltd | 178.20 | 167.66
Foshan Griffiths Building Material Ltd | Foshan Lihua Ceramics Co., Ltd | 178.20 | 167.66
Foshan Hudson Economics And Trade Co., Ltd | Guangdong Kito Ceramics Group Co., Ltd | 178.20 | 167.66
| Foshan Shiwan Eagle Brand Ceramic Co., Ltd | 178.20 | 167.66
| Guangdong Overland Ceramics Co., Ltd | 178.20 | 167.66
| Guangdong Bode Fine Building Material Co., Ltd | 178.20 | 167.66
| Foshan Yuanmei Craft Ceramics Factory | 178.20 | 167.66
| Foshan Nanhai Yuheng Decorative Material Co., Ltd | 178.20 | 167.66
| Guangzhou Cowin New Materials Co., Ltd | 178.20 | 167.66
| Guangdong Kito Trading Co., Ltd | 178.20 | 167.66
Foshan Ibel Import And Export Ltd | Foshan Ibel Import And Export Ltd | 178.20 | 167.66
Foshan International Trade Co., Ltd | Foshan B&W Ceramics Co., Ltd | 178.20 | 167.66
| Fogang Tongqing Ceramics Co., Ltd | 178.20 | 167.66
Foshan Junjing Industrial Co., Ltd | Foshan Chancheng Oldenburg Ceramics Co., Ltd | 178.20 | 167.66
| Guangdong Baiqiang Ceramics Co., Ltd | 178.20 | 167.66
| Foshan Huicheng Building Material Co., Ltd | 178.20 | 167.66
| Guangdong Jiamei Ceramics Co., Ltd | 178.20 | 167.66
| Fujian Nan'an Baoda Building Material Co., Ltd | 178.20 | 167.66
| Guangdong Bode Fine Building Material Co., Ltd | 178.20 | 167.66
| Foshan Jialeshi Building Material Co., Ltd | 178.20 | 167.66
| Foshan Jialeshi Building Material Co., Ltd | 178.20 | 167.66
Foshan Kiva Ceramics Co., Ltd | Guangdong Xinruncheng Ceramic Co., Ltd | 178.20 | 167.66
| Foshan Nanhai Yuda Ceramic Co., Ltd | 178.20 | 167.66
| Guangdong Shenghui Ceramic Co., Ltd | 178.20 | 167.66
| Guangdong Kito Ceramic Trading Co., Ltd | 178.20 | 167.66
| Zhaoqing Jincheng Ceramic Co., Ltd | 178.20 | 167.66
| Guangdong Yongsheng Ceramic Co., Ltd | 178.20 | 167.66
| Foshan Jialeshi Building Materials Co., Ltd | 178.20 | 167.66
| Guangxi Yaou Ceramics Co., Ltd | 178.20 | 167.66
| Foshan Nanhai Xinya Ceramic Co., Ltd | 178.20 | 167.66
Foshan Leo Import and Export Trading Co., Ltd | Foshan Jingmeida Ceramics Procuct Co., Ltd | 178.20 | 167.66
| Fujian Yuekai Building Materials Industry Co., Ltd | 178.20 | 167.66
| Guangxi Hengxi Building Materials Co., Ltd | 178.20 | 167.66
| Foshan Shiwan Yulong Ceramic Co., Ltd | 178.20 | 167.66
| Chaoyang Rongfu Ceramics Co., Ltd | 178.20 | 167.66
| Xianning Xianzhuanjiang Building Materials Co., Ltd | 178.20 | 167.66
| Jiangxi Jingcheng Ceramics Co., Ltd | 178.20 | 167.66
| Jiangxi Wifi Ceramics Co., Ltd | 178.20 | 167.66
| Guangdong Jiajun Ceramics Co., Ltd | 178.20 | 167.66
| Foshan Giania Ceramics Co., Ltd | 178.20 | 167.66
Foshan Ligaote Ceramics Co., Ltd | Foshan Ligaote Ceramics Co., Ltd | 178.20 | 167.66
Foshan Livin Ceramics Co., Ltd | Zhaoqing Jinhang Ceramics Co., Ltd | 178.20 | 167.66
| Cenxi Lianchuang Ceramics Co., Ltd | 178.20 | 167.66
Foshan Mainland Import and Export Co., Ltd | Fujian Nanan Baoda Building Materials Co., Ltd | 178.20 | 167.66
| Fujian Jinjiang Baoda Ceramics Co., Ltd | 178.20 | 167.66
| Nan'an Xiejin Building Material Commercial Firm | 178.20 | 167.66
| Nan'an Xiejin Building Materials Co., Ltd | 178.20 | 167.66
| Fujian Honghua Group Co., Ltd | 178.20 | 167.66
| Fujian Xindezhou Ceramics Co., Ltd | 178.20 | 167.66
Foshan Medici Building Material Co., Ltd | Chaoyang Rongfu Ceramic Tile Co., Ltd | 178.20 | 167.66
| Jianping Jinzheng Ceramic Tile Co., Ltd | 178.20 | 167.66
| Fujian Yuekai Building Material Co., Ltd | 178.20 | 167.66
| Fuzhou Hengyu Ceramic Tile Co., Ltd | 178.20 | 167.66
| Fujian Minqing Ouya Ceramic Tile Co., Ltd | 178.20 | 167.66
| Foshan Lazio Building Material Co., Ltd | 178.20 | 167.66
| Zhaoqing Gaoyao Guangfu Ceramic Tile Co., Ltd | 178.20 | 167.66
Foshan Muzzi Decor And Tile Co., Ltd | Pingxiang Dacheng Ceramics Technologies Co., Ltd | 178.20 | 167.66
Foshan Oceanland Ceramics Co., Ltd | Foshan Super Ceramics Co., Ltd | 178.20 | 167.66
| Qingyuan Baoshima Ceramic Co., Ltd | 178.20 | 167.66
| Xinxing Jianxing Ceramics Co., Ltd | 178.20 | 167.66
| Enping Quansheng Ceramics Co., Ltd | 178.20 | 167.66
| Guangdong Shenghui Ceramics Co., Ltd | 178.20 | 167.66
Foshan Paramount Import and Export Co., Ltd | Foshan Ligaote Ceramics Co., Ltd | 178.20 | 167.66
| Foshan Nanhai District Energy Building Material Co., Ltd | 178.20 | 167.66
| Foshan Shiwan Yulong Ceramic Co., Ltd | 178.20 | 167.66
| Luoding Junhua Ceramics Industrial Co., Ltd | 178.20 | 167.66
| Guangdong Bode Fine Building Material Co., Ltd | 178.20 | 167.66
Foshan Porcelain Plaza Trading Co., Ltd | Foshan Ottima Ceramic Co., Ltd | 178.20 | 167.66
| Foshan Dongpeng Ceramic Co., Ltd | 178.20 | 167.66
| Jinjiang City Zhongrong Ceramic Building Material Co., Ltd | 178.20 | 167.66
| Foshan Bannilu Ceramic Co., Ltd | 178.20 | 167.66
| Foshan Yibaiwang Building Material Co., Ltd | 178.20 | 167.66
Foshan Qualicer Industrial Co., Ltd | Guangzhou Cowin New Materials Co., Ltd | 178.20 | 167.66
Foshan Rainbow Color Export & Import Co., Ltd | Heshan Heqiang Art China & Dinnerware Co., Ltd | 178.20 | 167.66
| Jiangmen Xuri Ceramic Co., Ltd | 178.20 | 167.66
| Foshan Shiwan Yulong Ceramic Co., Ltd | 178.20 | 167.66
| Foshan Jingmeida Ceramic Products Co., Ltd | 178.20 | 167.66
| Foshan Ligao Ceramic Co., Ltd | 178.20 | 167.66
Foshan Rhino Building Materials Co., Ltd | Guangdong Gold Medal Ceramics Co., Ltd | 178.20 | 167.66
| Chaoyang Rong Fu Ceramic Co., Ltd | 178.20 | 167.66
Foshan Romantic Ceramics Co., Ltd | Heyuan Romantic Ceramics Co., Ltd | 178.20 | 167.66
| Pingxiang Dacheng Ceramics Technology Co., Ltd | 178.20 | 167.66
Foshan Saiguan Import & Export Co., Ltd | Saifei (Guangdong) New Materials Co., Ltd | 178.20 | 167.66
FoShan San Honore Imp & Exp CO., LTD | Quanzhou Zhiran Ceramics Company Ltd | 178.20 | 167.66
| Fujian Zunwei Ceramics Company Ltd | 178.20 | 167.66
Foshan Sanden Enterprise Co., Ltd | Tegaote Ceramics Co., Ltd | 178.20 | 167.66
| Zhaoqing Langfeng Ceramics Co., Ltd | 178.20 | 167.66
| Guangzhou Cowin New Materials Co., Ltd | 178.20 | 167.66
| Foshan Chengke New Material Co., Ltd | 178.20 | 167.66
| Foshan Jingmeida Ceramics Co., Ltd | 178.20 | 167.66
Foshan Shangking Group Co., Ltd | Guangdong Qianghui (QHTC) Ceramics Co., Ltd | 178.20 | 167.66
Foshan Shiwan Yulong Ceramic Co., Ltd | Foshan Shiwan Yulong Ceramic Co., Ltd | 178.20 | 167.66
Foshan Sincere Building Materials Co., Ltd | Foshan City Lihua Ceramic Co., Ltd | 178.20 | 167.66
| Enping City Huachang Ceramic Co., Ltd | 178.20 | 167.66
Foshan Soaraway Industrial Co., Ltd | Foshan Shiwan Yulong Ceramic Co., Ltd | 178.20 | 167.66
| Foshan Tai-Decor Decoration Materials Co., Ltd | 178.20 | 167.66
Foshan Sumso Construction Materials Co., Ltd | Foshan Laili Ceramics Co., Ltd | 178.20 | 167.66
Foshan Sundare Building Materials Co., Ltd | Foshan Qingyuan Baoshima Co., Ltd | 178.20 | 167.66
| Foshan New Henglong Polished Tiles Co., Ltd | 178.20 | 167.66
| Foshan Nanhai Xinyiya Decoration Materials Co., Ltd | 178.20 | 167.66
Foshan Sunvin Ceramics Co., Ltd | Sihui Jie Feng Decoration Materials Co., Ltd | 178.20 | 167.66
Foshan Tbs Trading Co., Ltd | Foshan Jiameisheng Ceramic Co., Ltd | 178.20 | 167.66
| Qingyuan Xinjinshan Ceramics Co., Ltd | 178.20 | 167.66
| Zhuhai Xuri Ceramics Co., Ltd | 178.20 | 167.66
| Foshan Elephome Ceramics Co., Ltd | 178.20 | 167.66
| Jinjiang Zhongrong Ceramics Of Build Material Co., Ltd | 178.20 | 167.66
| Quanzhou Yuanlong Building Materials Development Co., Ltd | 178.20 | 167.66
| Fujian Honghua Group Co., Ltd | 178.20 | 167.66
| Foshan Nanhai Jinzhilan Decoration Material Co., Ltd | 178.20 | 167.66
| Jinjiang Guoxing Ceramic Building Material Co., Ltd | 178.20 | 167.66
| Guangdong Yongsheng Ceramics Co., Ltd | 178.20 | 167.66
| Heyuan Romanic Ceramics Co., Ltd | 178.20 | 167.66
| Zhaoqing Jinhang Ceramics Co., Ltd | 178.20 | 167.66
| Foshan Yibao Ceramics Co., Ltd | 178.20 | 167.66
| Qingyuan Ouya Ceramic Co., Ltd | 178.20 | 167.66
| Foshan Top Black Ceramics Co., Ltd | 178.20 | 167.66
| Guangdong Jialian Enterprise Ceramics Co., Ltd | 178.20 | 167.66
| Sihui City Xin Quan Ye Ceramics Co., Ltd | 178.20 | 167.66
| Guangdong Hemei Ceramic Co., Ltd | 178.20 | 167.66
| Fujian Jinjiang Lianxing Building Materials Co., Ltd | 178.20 | 167.66
| Foshan New Yidian Ceramic Co., Ltd | 178.20 | 167.66
Foshan Tianyao Ceramics Co., Ltd | Guangdong Sihui Kedi Ceramics Co., Ltd | 178.20 | 167.66
Foshan Uni-Depot Porcelanico Co., Ltd | Guangdong Tianbi Ceramics Co., Ltd | 178.20 | 167.66
Foshan United Export Co., Ltd | Guangdong Shenghui Ceramics Co., Ltd | 178.20 | 167.66
| Guangdong Zhongsheng Ceramics Co., Ltd | 178.20 | 167.66
| Fujian Honghua Group Co., Ltd | 178.20 | 167.66
| Guangdong Godbet Ceramics Co., Ltd | 178.20 | 167.66
| Fujian Nan'an Baoda Building Material Co., Ltd | 178.20 | 167.66
| Zhangzhou City Aoli Ceramic Development Co. Ltd | 178.20 | 167.66
Foshan Viewgres Co., Ltd | Guangdong Bohua Ceramics Co., Ltd | 178.20 | 167.66
| Shandong Tongyi Ceramics Science & Technology Co., Ltd | 178.20 | 167.66
| Shandong Green Ceramics Co., Ltd | 178.20 | 167.66
| Ginca Ceramics Co., Ltd | 178.20 | 167.66
| Xiejin Ceramics Co., Ltd | 178.20 | 167.66
| Foshan Yigao Ceramic Co., Ltd | 178.20 | 167.66
| Enping City Huachang Ceramic Company Limited | 178.20 | 167.66
| Guangzhou Cowin New Materials Co., Ltd | 178.20 | 167.66
| Kaiping Kunen Building Materials Co., Ltd | 178.20 | 167.66
Foshan Walton Building Materials Co., Ltd | Belite Ceramics (Anyang) Co., Ltd | 178.20 | 167.66
| Lianxing Ceramics Co., Ltd | 178.20 | 167.66
| Foshan Yibao Ceramics Co., Ltd | 178.20 | 167.66
| Foshan Gaosheng Building Materials Co., Ltd | 178.20 | 167.66
| Foshan Shiwan Eagle Brand Ceramic Co., Ltd | 178.20 | 167.66
| Xingning Toscana Ceramics Co., Ltd | 178.20 | 167.66
Foshan Winbill Trading Company Limited | Guangdong Yonghang Advanced Materials Industrial Co., Ltd | 178.20 | 167.66
Foshan Yinghui Industrial Co., Ltd | Heshan Heqiang Art China & Dinnerware Co., Ltd | 178.20 | 167.66
Fujian Minmetals Cbm Co., Ltd | Fujian Minqing Ouya Ceramic Tile Co., Ltd | 178.20 | 167.66
| Xinxing Jianxing Ceramics Co., Ltd | 178.20 | 167.66
| Tianjin Belite Ceramics Co., Ltd. Foshan Branch | 178.20 | 167.66
Fujian Minqing Hao Ye Ceramics Co., Ltd | Fujian Minqing Hao Ye Ceramics Co., Ltd | 178.20 | 167.66
Fuzhou Shuangxin Ceramic Co., Ltd | Fujian Xindezhou Ceramic Co., Ltd | 178.20 | 167.66
| Fujian Nan'an Baoda Building Material Co., Ltd | 178.20 | 167.66
| Fujian Zhuangyi Building Material Co., Ltd | 178.20 | 167.66
| Zhangzhou Aoli Ceramic Development Co., Ltd | 178.20 | 167.66
Gearex Corporation | Kaiping Tilee's Building Materials Co., Ltd | 178.20 | 167.66
| Foshan Oceano Ceramics Co., Ltd | 178.20 | 167.66
| Jingdezhen Oceano Ceramics Co., Ltd | 178.20 | 167.66
| Guangdong Xinruncheng Ceramics Co., Ltd | 178.20 | 167.66
| Foshan Kioro Trade Co., Ltd | 178.20 | 167.66
| Zhaoqing Xinhe Ceramics Co., Ltd | 178.20 | 167.66
| Fogang Tongqing Ceramics Co., Ltd | 178.20 | 167.66
| Foshan Bolier Building Materials Co., Ltd | 178.20 | 167.66
| Guandong Kasor Ceramics Technology Co., Ltd | 178.20 | 167.66
| Max Glory International Ltd | 178.20 | 167.66
| Rongfu Ceramics Co., Ltd | 178.20 | 167.66
| Tegaote Ceramics Co., Ltd | 178.20 | 167.66
| Elegance International Inc | 178.20 | 167.66
| Foshan Shiwan Yulong Ceramic Co., Ltd | 178.20 | 167.66
| Foshan Top-Black Ceramic Co., Ltd | 178.20 | 167.66
| Kim Hin Ceramics (Shanghai) Co., Ltd | 178.20 | 167.66
| Jiangxi Province Shiwan Huanqiu Ceramics Co., Ltd | 178.20 | 167.66
| Foshan Huanqiu Ceramics Co., Ltd | 178.20 | 167.66
| Foshan Leo Import And Export Trading Co., Ltd | 178.20 | 167.66
| Gearex Technical Ceramic Kun Shan Co., Ltd | 178.20 | 167.66
Global Trading Co., Ltd | Guangdong Kito Ceramic Trading Co., Ltd | 178.20 | 167.66
Guangdong Bode Fine Building Material Co | Guangdong Bode Fine Building Material Co | 178.20 | 167.66
Guangdong Jiajun Ceramics Co., Ltd | Guangdong Jiajun Ceramics Co., Ltd | 178.20 | 167.66
Guangdong Jiamei Ceramics Co., Ltd | Guangdong Jiamei Ceramics Co., Ltd | 178.20 | 167.66
Guangdong Jinying Import & Export Co., Ltd | Guangdong Sheng Hui Ceramics Co., Ltd | 178.20 | 167.66
| Xingning Toscana Ceramics Co., Ltd | 178.20 | 167.66
| Guangdong Jialian Enterprise Ceramics Co., Ltd | 178.20 | 167.66
| Jiangxi Shiwan Huanqiu Ceramics Co., Ltd | 178.20 | 167.66
Guangdong Kito Ceramics Group Co., Ltd | Jingdezhen Kito Ceramic Co., Ltd | 178.20 | 167.66
| Foshan Sanshui Kito Ceramic Co., Ltd | 178.20 | 167.66
| Guangdong Gold Medal Ceramics Co., Ltd | 178.20 | 167.66
Guangdong Monalisa Trading Co., Ltd | Monalisa Group Co., Ltd | 178.20 | 167.66
Guangdong Overland Ceramics Co., Ltd | Guangdong Overland Ceramics Co., Ltd | 178.20 | 167.66
Guangdong Winto Ceramics Co., Ltd | Guangdong Homeway Ceramics Co., Ltd | 178.20 | 167.66
Hangzhou Nabel China Co., Ltd | Deqing Nabel Co., Ltd | 178.20 | 167.66
Heyuan Dongyuan Eagle Brand Ceramic Co., Ltd | Heyuan Dongyuan Eagle Brand Ceramic Co., Ltd | 178.20 | 167.66
Hoe Hin Building Materials Co., Limited | Foshan liangjian ceramics Co., Limited | 178.20 | 167.66
| Guangdong Bode Fine Building Material | 178.20 | 167.66
| Kaipingkunenbuilding Materials Co., Ltd | 178.20 | 167.66
| Zhaoqing Langfeng Ceramics Co., Ltd | 178.20 | 167.66
| Kaiping Tilee's Building Materials Co | 178.20 | 167.66
| Foshan Shanghui decoration material Co., Ltd | 178.20 | 167.66
| Tegaote Ceramics Co., Ltd | 178.20 | 167.66
| Fogang Tongqing Ceramics Co., Ltd | 178.20 | 167.66
| Guangdong Xinruncheng Ceramics Co., Ltd | 178.20 | 167.66
| Guangdong Simpire Building Material Co., Ltd | 178.20 | 167.66
| Foshan Newyidian Ceramic Co., Ltd | 178.20 | 167.66
| Foshan Shiwan Yulong Ceramic Co; Ltd | 178.20 | 167.66
Hong Kong Kito Cerarnic Co., Limited | Guangdong Kito Ceramics Group Co., Ltd | 178.20 | 167.66
| Jingdezhen Kito Ceramic Co., Ltd | 178.20 | 167.66
| Foshan Sanshui Kito Ceramic Co., Ltd | 178.20 | 167.66
| Guangdong Gold Medal Ceramics Co., Ltd | 178.20 | 167.66
JDD Industry Co., Limited | Guangdong KITO Ceramics Group Co., Ltd | 178.20 | 167.66
| Guangdong KITO Trading Co., Ltd | 178.20 | 167.66
| Guangdong Bode Fine Building Material Co., Ltd | 178.20 | 167.66
| White Rabbit Ceramics Co., Ltd | 178.20 | 167.66
| Guangdong Xinruncheng Ceramics Co., Ltd | 178.20 | 167.66
| Heyuan Dongyuan Eagle Brand Ceramic Co., Ltd | 178.20 | 167.66
| Enping Jingye Ceramic Co., Ltd | 178.20 | 167.66
| Guangdong Shenghui Ceramics Co., Ltd | 178.20 | 167.66
| Zhaoqing Guoshi Enterprise Mingjia Ceramics Co., Ltd | 178.20 | 167.66
| Fogang Tongqing Ceramics Co., Ltd | 178.20 | 167.66
| Guangdong Overland Ceramics Co., Ltd | 178.20 | 167.66
| Dongguan City Wonderful Ceramics Industrial Park Co., Ltd | 178.20 | 167.66
| Dongguan City Wonderful Decoration Materials Co., Ltd | 178.20 | 167.66
| Guangdong Jiamei Ceramics Co., Ltd | 178.20 | 167.66
| Jiangxi Hemei Ceramics Co., Ltd | 178.20 | 167.66
| GuangDong Simpire Building Materials Co., Ltd | 178.20 | 167.66
| Fujian Chaosheng Ceramics Co., Ltd | 178.20 | 167.66
| Guangdong Tianbi Ceramics Co., Ltd | 178.20 | 167.66
Jiangxi Wifi Ceramics Co., Ltd | Jiangxi Sun Ceramics Co., Ltd | 178.20 | 167.66
Jingdezhen Kito Ceramic Co., Ltd | Jingdezhen Kito Ceramic Co., Ltd | 178.20 | 167.66
| Guangdong Gold Medal Ceramic Co., Ltd | 178.20 | 167.66
Jingdezhen Seed Ceramic Co., Ltd | Jingdezhen Seed Ceramic Co., Ltd | 178.20 | 167.66
Kaiping City China Trade Import & Export Co., Ltd | Kaiping Tilee's Building Materials Co., Ltd | 178.20 | 167.66
Kertiles (Foshan) Inc | Guangdong Shenghui Ceramics Co., Ltd | 178.20 | 167.66
| Bite Mosaic Co., Ltd | 178.20 | 167.66
| Foshan Nanhai Suode Mosaic Co., Ltd | 178.20 | 167.66
| Guangdong Xinruncheng Ceramics Co., Ltd | 178.20 | 167.66
| Foshan Jialeshi Building Co., Ltd | 178.20 | 167.66
| Foshan Lailida Ceramics Co., Ltd | 178.20 | 167.66
| Love Song Mosaic Co., Ltd | 178.20 | 167.66
| Linyi Aoda Ceramic Co., LTD | 178.20 | 167.66
| Toptiles International Shangdong Limited | 178.20 | 167.66
| Linyi Lianshun Cermaics Co., Ltd | 178.20 | 167.66
| Foshan Nanhai Yuda Ceramics Co., Ltd | 178.20 | 167.66
| Guangdong Yonghang New Materials Industry Co., Ltd | 178.20 | 167.66
| Guangdong Yongsheng Ceramics Co., Ltd | 178.20 | 167.66
| Foshan Viewgres Co., Ltd | 178.20 | 167.66
| Shandong Lion king Ceramics Science & Technology Company., Ltd | 178.20 | 167.66
| Quanzhou Minmetals Huayi Trading Co., Ltd | 178.20 | 167.66
| Heyuan Dongyuan Eagle Brand Ceramics Co., Ltd | 178.20 | 167.66
| Foshan Liangjian Ceramics Co., Ltd | 178.20 | 167.66
| Foshan Bull Ceramics Co., Ltd | 178.20 | 167.66
| Foshan Huiya Ceramics Co., Ltd | 178.20 | 167.66
| Foshan Jinmali Ceramics Co., Ltd | 178.20 | 167.66
| Shandong Qidu Ceramics Co., Ltd | 178.20 | 167.66
| Shandong Jiabao Ceramics Co., Ltd | 178.20 | 167.66
| Foshan Huan Qiu Ceramics | 178.20 | 167.66
| Jiangmen Xuri Ceramics Co., Ltd | 178.20 | 167.66
Kim Hln Ceramics (Shanghai) Co., Ltd | KIM HlN CERAMICS (SHANGHAI) CO., LTD | 178.20 | 167.66
Mcmarmocer Ceramics Limited | Guangdong Yonghang New Materials Industry Co., Ltd | 178.20 | 167.66
| Guangdong Owenlai Ceramics Co., Ltd | 178.20 | 167.66
| Guangdong High Microcrystal Technology Co., Ltd | 178.20 | 167.66
| Foshan Shiwan Yulong Ceramics Co., Ltd | 178.20 | 167.66
Megacera Incorporation Limited | Foshan Giance Trading Co., Ltd | 178.20 | 167.66
| Foshan Accuwealth Trading Co., Ltd | 178.20 | 167.66
Modern Home Ceramics Co., Limited | Zibo Fengxia Ceramics Co., Ltd | 178.20 | 167.66
| Zibo Jin Yi Ceramics Co., Ltd | 178.20 | 167.66
Nanning Ying Jin Ling Trade Co., Ltd | Saifei (Guangdong) New Materials Co., Ltd | 178.20 | 167.66
| Guangdong Fuqiang Ceramic Co., Ltd | 178.20 | 167.66
| Foshan Rongyi Construction Materials Co., Ltd | 178.20 | 167.66
| Foshan Cizun Ceramics Co., Ltd | 178.20 | 167.66
| Guangdong Xie Jin Ceramics Co., Ltd | 178.20 | 167.66
New Zhong Yuan Ceramics Import & Export Co., Ltd. of Guangdong | Southern Building Materials and Sanitary Co., Ltd of Qingyuan City | 178.20 | 167.66
| Guangdong Luxury Micro-Crystal Stone Technology Co., Ltd | 178.20 | 167.66
| Jiangxi Fuligao Ceramics Co., Ltd | 178.20 | 167.66
| Hubei Baojiali Ceramics Co., Ltd | 178.20 | 167.66
Porschelain Building Materials Co., Ltd | Guangdong Gold Medal Ceramics Co., Ltd | 178.20 | 167.66
Qingdao Oriental Bright Trading Co., Ltd | Zibo Fengxia Ceramics Co., Ltd | 178.20 | 167.66
| Zibo Jin Yi Ceramics Co., Ltd | 178.20 | 167.66
Quanzhou Lans Ceramic Products Co., Ltd | Fujian Tilechina Industrial Co., Ltd | 178.20 | 167.66
| Quanzhou Yuanlong Building Materials Development Co., Ltd | 178.20 | 167.66
| Fujian Likai Ceramic Co., Ltd | 178.20 | 167.66
| Fujian Jinjiang Jincheng Ceramics Co., Ltd | 178.20 | 167.66
Rabbit Song Building Material Co., Ltd | White Rabbit Ceramics Co., Ltd | 178.20 | 167.66
Shandong Kingstone Ceramics Co., Ltd | Shandong Lianzhong Ceramics Co., Ltd | 178.20 | 167.66
| Shandong Shunwei Ceramics Co., Ltd | 178.20 | 167.66
| Zibo Xinyijin Ceramic Technology Co., Ltd | 178.20 | 167.66
Shanghai Gaudimila Import & Exporter Co., Ltd | Shanghai Gaudimila Construction Materials Co., Ltd | 178.20 | 167.66
Sinorock (Jiangxi) Co., Ltd | Fujian Huatai Group Co., Ltd | 178.20 | 167.66
Stota Ceramics Co., Ltd | Xingning Toscana Ceramics Co., Ltd | 178.20 | 167.66
| Foshan Xinyidian Colored Ceramics Co.,Ltd | 178.20 | 167.66
| Foshan Sanshui Kaililai Craft Products Co., Ltd | 178.20 | 167.66
| Gaoyao Tegaote Chinaware Co., Ltd | 178.20 | 167.66
| Guangdong Shenghui Ceramics Co., Ltd | 178.20 | 167.66
| Foshan Yitao Building Materials Co., Ltd | 178.20 | 167.66
| Foshan Hangxin Building Materials Co., Ltd | 178.20 | 167.66
| Foshan Saize Decorative Materials Co., Ltd | 178.20 | 167.66
| Foshan Nanhai Suode Glass Technics Co., Ltd | 178.20 | 167.66
| Jiangmen Huatao Ceramics Co., Ltd | 178.20 | 167.66
Temgoo International Trading Limited | Xinxing Jianxing Ceramics Co., Ltd | 178.20 | 167.66
| Xinxingxian Yinghao Ceramics Co., Ltd | 178.20 | 167.66
| Zhaoqingshi Gaoyaoqu Xingda Ceramics Co., Ltd | 178.20 | 167.66
| Foshan Skyplanet Import & Export Co., Ltd | 178.20 | 167.66
The Tile Shop (Beijing) Trading Company, Ltd | Belite Ceramics (Anyang) Co., Ltd | 178.20 | 167.66
| Foshan Xindonglong Ceramic Co., Ltd | 178.20 | 167.66
| Quality Tile Co., Ltd | 178.20 | 167.66
Super Building Material Co., Ltd. (Xiamen) | Xiamen Aidi Building Materials Industry Co., Ltd | 178.20 | 167.66
| Zhangzhou Sage Building Material Technology Co., Ltd | 178.20 | 167.66
| Zhangzhou Huitai Building Materials Technology Co., Ltd | 178.20 | 167.66
| Quanzhou Zhengyifang Ceramic Technology Co., Ltd | 178.20 | 167.66
| Foshan Nanhai Meitian Glass Technology Co., Ltd | 178.20 | 167.66
| Yunfu Jiapeng Stone Co., Ltd | 178.20 | 167.66
| Foshan Debang Building Material Co., Ltd | 178.20 | 167.66
| Foshan Longjing Decoration Materials Co., Ltd | 178.20 | 167.66
Yekalon Industry Inc | Fujian Minqing Tenglong Ceramics Co., Ltd | 178.20 | 167.66
| Romantic Ceramics Co., Ltd | 178.20 | 167.66
| Foshan Shiwan Eagle Brand Ceraminc Ltd | 178.20 | 167.66
| Fujian Hongxing Ceramic Development Co., Ltd | 178.20 | 167.66
| Fujian Zhangzhou Ruicheng Ceramics Co., Ltd | 178.20 | 167.66
| Foshan Nanhai District Traven Development Decorative Tiles Co., Ltd | 178.20 | 167.66
| Foshan Czun Ceramics Co., Ltd | 178.20 | 167.66
| Foshan Qiangguan Building Materials Co., Ltd | 178.20 | 167.66
| Foshan Jiana Ceramics Co., Ltd | 178.20 | 167.66
| Foshan GIANIA Ceramics | 178.20 | 167.66
| Guangdong Shenghui Ceramics Co., Ltd | 178.20 | 167.66
| Foshan Tai-Decor Decoration Materials Co., Ltd | 178.20 | 167.66
| Fujian Minqing Jintao Ceramic Co., Ltd | 178.20 | 167.66
| Foshan Lihua Ceramics Co., Ltd | 178.20 | 167.66
| Xingning Toscana Ceramics Co., Ltd | 178.20 | 167.66
| Foshan Nanhai Shengguan Building Materials Co., Ltd | 178.20 | 167.66
| Jinjiang Zhongrong Ceramic Building Material Co., Ltd | 178.20 | 167.66
| Foshan Yangguang Ceramics Co., Ltd | 178.20 | 167.66
| Xindonglong Ceramices Co., Ltd | 178.20 | 167.66
| Jinshajiang Ceramics Co., Ltd | 178.20 | 167.66
| Enping Yijian Ceramics Co., Ltd | 178.20 | 167.66
| Jiangmen Huatao Ceramic Co., Ltd | 178.20 | 167.66
| Guangdong Jialian Enterprise Ceramics Co., Ltd | 178.20 | 167.66
| Guangdong Xinruncheng Ceramics Co., Ltd | 178.20 | 167.66
| Fujian Huatai Group Co., Ltd | 178.20 | 167.66
| Fujian Honghua Group Co., Ltd | 178.20 | 167.66
| Guangdong Yonghang New Materials Industry Co., Ltd | 178.20 | 167.66
| Jiangxi Jingcheng Ceramics Co., Ltd | 178.20 | 167.66
| Zhaoqing Langfeng Ceramics Co., Ltd | 178.20 | 167.66
| Foshan Top-Black Ceramic Co., Ltd | 178.20 | 167.66
| Zhaoqing Xinhe Ceramics Co., Ltd | 178.20 | 167.66
Yingfei International Limited | Foshan Shuangou Ceramics Co., Ltd | 178.20 | 167.66
Foshan Yinghui Industrial Co., Ltd | Heshan Heqiang Art China & Dinnerware Co., Ltd | 178.20 | 167.66
Zhuhai Xuri Star Trading Co., Ltd | Zhuhai City Doumen District Xuri Pottery And Porcelain Company Limited | 178.20 | 167.66
Zi Bo Teng Chen International Trade Co., Ltd | Zibo Jinhao Ceramics Co., Ltd | 178.20 | 167.66
| Shandong Yuan Feng Ceramics Co., Ltd | 178.20 | 167.66
Zibo Belin Trading Co., Ltd | Shandong Lion King Ceramic Technology & Science Co., Ltd | 178.20 | 167.66
| Shandong Yuanfeng Ceramic Co., Ltd | 178.20 | 167.66
| Shandong Shunwei Ceramic Co., Ltd | 178.20 | 167.66
Zibo Jiaxi Group Co., Ltd | Shandong Lionking Ceramics Co., Ltd | 178.20 | 167.66
| Shandong Gengci Group Co., Ltd | 178.20 | 167.66
| Shandong Lianzhong Ceramics Co., Ltd | 178.20 | 167.66
| Shandong Greenkey Ceramics Co., Ltd | 178.20 | 167.66
| Shandong Yuxi Ceramics Co., Ltd | 178.20 | 167.66
| Zibo Jinhao Ceramics Co., Ltd | 178.20 | 167.66
| Shandong Shunyuan Ceramics Co., Ltd | 178.20 | 167.66
| Shandong Yuma Ceramics Co., Ltd | 178.20 | 167.66
| Shandong Shunwei Ceramics Co., Ltd | 178.20 | 167.66
| Zibo New Jinyi Ceramic And Technoogy Co., Ltd | 178.20 | 167.66
| Zibo Ginca Ceramics Co., Ltd | 178.20 | 167.66
| Linyi Aoda Ceramics Co., Ltd | 178.20 | 167.66
Zibo Lipin Ceramic Co., Ltd | Shandong Shunwei Ceramics Co., Ltd | 178.20 | 167.66
| Shandong Yuanfeng Ceramics Co., Ltd | 178.20 | 167.66
| Shandong Shiziwang Ceramics Technology Co., Ltd | 178.20 | 167.66
| Shandong Zibo Luzhong Construction Materials Plant | 178.20 | 167.66
| Shandong Mingyu Ceramics Technology Co., Ltd | 178.20 | 167.66
| Zibo Xinjinyi Ceramics Technology Co., Ltd | 178.20 | 167.66
| Shandong Guorun Ceramics Co., Ltd | 178.20 | 167.66
| Zibo Jinyi Ceramics Co., Ltd | 178.20 | 167.66
| Anyang Fuerjia Ceramics Technology Co., Ltd | 178.20 | 167.66
| Shandong Gengci Group Co., Ltd | 178.20 | 167.66
| Zhangzhou Aoli Ceramics Development Co., Ltd | 178.20 | 167.66
| Nan'an Kuoda Construction Materials Co., Ltd | 178.20 | 167.66
| Foshan Modern Mingshi Ceramics Co., Ltd | 178.20 | 167.66
China-Wide Entity ¹¹ |  | 356.02

Suspension of Liquidation

¹¹ Commerce preliminarily determined that Jiaxing Xingcheng Electronics Co., Ltd., Ningbo Panxiang Imp & Exp Co., Ltd., Ningbo Zhonglian Fastener Co., Ltd., and Ningbo Zhong Xin Angora Spinning Mill failed to establish their eligibility for a separate rate and, therefore, preliminarily determined that these companies are part of the China-wide entity. See Preliminary Decision Memorandum.

In accordance with section 703(d)(1)(B) and (d)(2) of the Act, Commerce will direct U.S. Customs and Border Protection (CBP) to suspend liquidation of entries of subject merchandise as described in the scope of the investigation section entered, or withdrawn from warehouse, for consumption on or after the date of publication of this notice in the Federal Register. Further, pursuant to 19 CFR 351.205(d), Commerce will instruct CBP to require a cash deposit equal to the rates indicated above.

Disclosure

Commerce intends to disclose to interested parties the calculations performed in connection with this preliminary determination within five days of its public announcement or, if there is no public announcement, within five days of the date of publication of this notice in the Federal Register, in accordance with 19 CFR 351.224(b).

Verification

As provided in section 782(i)(1) of the Act, Commerce intends to verify information relied upon in making its final determination.

Public Comment

Case briefs or other written comments may be submitted to the Assistant Secretary for Enforcement and Compliance no later than seven days after the date on which the last final verification report is issued in this investigation. Rebuttal briefs, limited to issues raised in case briefs, may be submitted no later than five days after the deadline date for case briefs.¹² Pursuant to 19 CFR 351.309(c)(2) and (d)(2), parties who submit case briefs or rebuttal briefs in this investigation are encouraged to submit with each argument: (1) A statement of the issue; (2) a brief summary of the argument; and (3) a table of authorities.

¹² See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC, 20230, at a time and date to be determined. Parties should confirm by telephone the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioners. Pursuant to 19 CFR 351.210(e)(2), Commerce requires that requests by respondents for postponement of a final antidumping determination be accompanied by a request for extension of provisional measures from a four-month period to a period not more than six months in duration.

Between October 28, 2019, and October 30, 2019, pursuant to 19 CFR 351.210(e), Belite, Foshan Sanfi, and the petitioner requested that Commerce postpone the final determination and that provisional measures be extended to a period not to exceed six months.¹³ In accordance with section 735(a)(2)(A) of the Act and 19 CFR 351.210(b)(2)(ii), because (1) the preliminary determination is affirmative; (2) the requesting exporters account for a significant proportion of exports of the subject merchandise; and (3) no compelling reasons for denial exist, Commerce is postponing the final determination and extending the provisional measures from a four-month period to a period not greater than six months. Accordingly, Commerce's final determination will be issued no later than 135 days after the date of publication of this preliminary determination.

¹³ See Belite's Letter, “Belite Anyang's Request for Postponement of Final Determination and Extension of Provisional Measures Period in the Antidumping Duty Investigation on Ceramic Tile from the People's Republic of China, A-570-108,” dated October 28, 2019; Foshan Sanfi's Letter, “Ceramic Tile From the People's Republic of China—Request Postponement of Final Determination and Extension of Provisional Measures Period,” dated October 30, 2019; and Petitioner's Letter, “Antidumping Duty Investigation of Ceramic Tile from the People's Republic of China: Petitioner's Request for Postponement of Final Determination and Extension of Provisional Measures Period,” dated October 30, 2019.

International Trade Commission Notification

In accordance with section 733(f) of the Act, Commerce will notify the International Trade Commission (ITC) of its preliminary determination of sales at LTFV. If the final determination is affirmative, the ITC will determine before the later of 120 days after the date of this preliminary determination or 45 days after the final determination whether these imports of the subject merchandise are materially injuring, or threaten material injury to, the U.S. industry.

Notification to Interested Parties

This determination is issued and published in accordance with sections 733(f) and 777(i)(1) of the Act and 19 CFR 351.205(c).

Dated: November 6, 2019.
Jeffrey I. Kessler,
Assistant Secretary for Enforcement and Compliance.

Appendix I

Scope of the Investigation

The merchandise covered by this investigation is ceramic flooring tile, wall tile, paving tile, hearth tile, porcelain tile, mosaic tile, flags, finishing tile, and the like (hereinafter ceramic tile). Ceramic tiles are articles containing a mixture of minerals including clay (generally hydrous silicates of alumina or magnesium) that are fired so the raw materials are fused to produce a finished good that is less than 3.2 cm in actual thickness. All ceramic tile is subject to the scope regardless of end use, surface area, and weight, regardless of whether the tile is glazed or unglazed, regardless of the water absorption coefficient by weight, regardless of the extent of vitrification, and regardless of whether or not the tile is on a backing. Subject merchandise includes ceramic tile with decorative features that may in spots exceed 3.2 cm in thickness and includes ceramic tile “slabs” or “panels” (tiles that are larger than 1 meter² (11 ft.²)).

Subject merchandise includes ceramic tile that undergoes minor processing in a third country prior to importation into the United States. Similarly, subject merchandise includes ceramic tile produced that undergoes minor processing after importation into the United States. Such minor processing includes, but is not limited to, one or more of the following: Beveling, cutting, trimming, staining, painting, polishing, finishing, additional firing, or any other processing that would otherwise not remove the merchandise from the scope of the investigation if performed in the country of manufacture of the in-scope product.

Subject merchandise is currently classified in the Harmonized Tariff Schedule of the United States (HTSUS) under the following subheadings of heading 6907: 6907.21.1005, 6907.21.1011, 6907.21.1051, 6907.21.2000, 6907.21.3000, 6907.21.4000, 6907.21.9011, 6907.21.9051, 6907.22.1005, 6907.22.1011, 6907.22.1051, 6907.22.2000, 6907.22.3000, 6907.22.4000, 6907.22.9011, 6907.22.9051, 6907.23.1005, 6907.23.1011, 6907.23.1051, 6907.23.2000, 6907.23.3000, 6907.23.4000, 6907.23.9011, 6907.23.9051, 6907.30.1005, 6907.30.1011, 6907.30.1051, 6907.30.2000, 6907.30.3000, 6907.30.4000, 6907.30.9011, 6907.30.9051, 6907.40.1005, 6907.40.1011, 6907.40.1051, 6907.40.2000, 6907.40.3000, 6907.40.4000, 6907.40.9011, and 6907.40.9051. Subject merchandise may also enter under subheadings of headings 6914 and 6905: 6914.10.8000, 6914.90.8000, 6905.10.0000, and 6905.90.0050. The HTSUS subheadings are provided for convenience and customs purposes only. The written description of the scope of this investigation is dispositive.

Appendix II

List of Topics Discussed in the Preliminary Decision Memorandum

I. Summary

II. Background

III. Period of Investigation

IV. Scope Comments

V. Scope of the Investigation

VI. Product Characteristics

VII. Respondent Selection

VIII. Postponement of Final Determination and Extension of Provisional Measures

IX. Preliminary Negative Determination of Critical Circumstances

X. Collapsing and Affiliation

XI. Discussion of the Methodology

XII. Adjustment Under Section 777(A)(f) of the Act

XIII. Adjustment to Cash Deposit Rate for Export Subsidies

XIV. Recommendation

[FR Doc. 2019-24734 Filed 11-13-19; 8:45 am]

BILLING CODE 3510-DS-P